DEPARTMENT OF JUSTICE

Drug Enforcement Administration

[Docket No. DEA-392]

Importer of Controlled Substances Registration: Meda Pharmaceuticals, Inc.

ACTION: Notice of registration.

SUMMARY: Meda Pharmaceuticals, Inc. applied to be registered as an importer of a certain basic class of controlled substance. The Drug Enforcement Administration (DEA) grants Meda Pharmaceuticals, Inc. registration as an importer of this controlled substance.

SUPPLEMENTARY INFORMATION: By notice dated March 20, 2015, and published in the Federal Register on March 27, 2015, 80 FR 16426, Meda Pharmaceuticals, Inc., 705 Eldorado Street, Decatur, Illinois 62523 applied to be registered as an importer of a certain basic class of controlled substance. No comments or objections were submitted for this notice.

The DEA has considered the factors in 21 U.S.C. 823, 952(a) and 958(a) and determined that the registration of Meda Pharmaceuticals, Inc. to import the basic class of controlled substance is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of nabilone (7379) a basic class of controlled substance listed in schedule II.

The company plans to import the FDA approved drug product in finished dosage form for distribution to its customers.

Dated: July 10, 2015.
Joseph T. Rannazzisi,
Deputy Assistant Administrator.

[FR Doc. 2015-17514 Filed 7-16-15; 8:45 am]

BILLING CODE 4410-09-P